INTERNATIONAL TRADE COMMISSION

[USITC SE-02-018]

Sunshine Act Meeting

AGENCY: United States International Trade Commission.

Time and Date: June 20, 2002 at 11:00 a.m.

Place: Room 101, 500 E Street SW., Washington, DC 20436, Telephone: (202) 205-2000.

Status: Open to the public.

Matters To Be Considered:

1. Agenda for future meeting: None.

2. Minutes.

3. Ratification List.

4. Inv. No. 731-TA-943 (Final)(Circular Welded Non-Alloy Steel Pipe from China)—briefing and vote. (The Commission is currently scheduled to transmit its determination and Commissioners' opinions to the Secretary of Commerce on or before June 28, 2002.)

5. Inv. No. 731-TA-948 (Final) (Individually Quick Frozen Red Raspberries from Chile)—briefing and vote. (The Commission is currently scheduled to transmit its determination and Commissioners' opinions to the Secretary of Commerce on or before June 28, 2002.)

6. Outstanding action jackets: none.

In accordance with Commission policy, subject matter listed above, not disposed of at the scheduled meeting, may be carried over to the agenda of the following meeting.

Issued: June 10, 2002.
By order of the Commission:
Marilyn R. Abbott,
Secretary to the Commission.

[FR Doc. 02-14942 Filed 6-10-02; 12:20 pm]

BILLING CODE 7020-02-P